DEPARTMENT OF HEALTH AND HUMAN SERVICES

Centers for Disease Control and Prevention

Disease, Disability, and Injury Prevention and Control Special Emphasis Panels (SEP): Intervention Research Grants To Promote the Health of People With Disabilities (Panels B and C), Request for Applications (RFA) Number DD06-004

In accordance with Section 10(a)(2) of the Federal Advisory Committee Act (Pub. L. 92-463), the Centers for Disease Control and Prevention (CDC) announces the following meeting:

Name: Disease, Disability, and Injury Prevention and Control Special Emphasis Panel (SEP): Intervention Research Grants to Promote the Health of People with Disabilities (Panels B and C), RFA Number DD06-004.

Time and Date:

8 a.m.-8:15 a.m., June 20, 2006 (Open).

8:15 a.m.-5 p.m., June 20, 2006 (Closed).

8 a.m.-8:15 a.m., June 21, 2006 (Open).

8:15 a.m.-5 p.m., June 21, 2006 (Closed).

Place: Atlanta Marriott Suites Midtown, 35 14th Street, Atlanta, GA 30309, Telephone (404) 876-8888.

Status: The meeting will be closed to the public in accordance with provisions set forth in section 552b(c) (4) and (6), Title 5 U.S.C., and the Determination of the Director, Management Analysis and Services Office, CDC, pursuant to Public Law 92-463.

Matters to be Discussed: To conduct expert review of scientific merit of research applications: Intervention Research Grants to Promote the Health of People with Disabilities (Panels B and C), RFA-DD06-004.

For Further Information Contact: Juliana Cyril, Ph.D., Scientific Review Administrator, CDC, 1600 Clifton Road, NE, Mail Stop D-72, Atlanta, GA, 30333, Telephone (404) 639-4639.

The Director, Management Analysis and Services Office, has been delegated the authority to sign Federal Register notices pertaining to announcements of meetings and other committee management activities, for both CDC and the Agency for Toxic Substances and Disease Registry.

Dated: May 19, 2006.
Alvin Hall,
Director, Management Analysis and Services Office, Centers for Disease Control and Prevention.

[FR Doc. E6-8240 Filed 5-26-06; 8:45 am]

BILLING CODE 4163-18-P